DEPARTMENT OF HOMELAND SECURITY

U.S. Immigration and Customs Enforcement

[OMB Control Number 1653-0053]

Agency Information Collection Activities; Revision of a Currently Approved Collection: Allegation of Counterfeiting and Intellectual Piracy

AGENCY: U.S. Immigration and Customs Enforcement, Department of Homeland Security.

ACTION: 60-Day notice.

SUMMARY: The Department of Homeland Security (DHS), U.S. Immigration and Customs Enforcement (ICE) invites the general public and other Federal agencies to comment on this proposed revision of a currently approved collection of information. In accordance with the Paperwork Reduction Act (PRA) of 1995, this information collection notice is published in the Federal Register to obtain comments regarding the nature of the information collection, the categories of respondents, the estimated burden (i.e., the time, effort, and resources used by the respondents to respond), the estimated cost to the respondent, and the actual information collection instruments.

DATES: Comments are encouraged and will be accepted until February 1, 2022.

ADDRESSES: All submissions received must include the OMB Control Number 1653-0053 in the body of the correspondence, the agency name and Docket ID ICEB-2014-0003. All comments received will be posted without change to http://www.regulations.gov, including any personal information provided. Submit comments via the Federal eRulemaking Portal website at http://www.regulations.gov under e-Docket ID number ICEB-2014-0003.

FOR FURTHER INFORMATION CONTACT: If you have questions related to this revision, please contact: Michael Rose (313) 530-7236, michael.t.rose@ice.dhs.gov, U.S. Immigration and Customs Enforcement. (This is not a toll-free number. Comments are not accepted via telephone message.)

SUPPLEMENTARY INFORMATION:

Comment

You may access the information collection instrument with instructions or additional information by visiting the Federal eRulemaking Portal site at: https://www.regulations.gov and entering ICEB-2014-0003 in the search box. All submissions will be posted, without change, to the Federal eRulemaking Portal at https://www.regulations.gov, and will include any personal information you provide. Therefore, submitting this information makes it public. You may wish to consider limiting the amount of personal information that you provide in any voluntary submission you make. DHS may withhold information provided in comments from public viewing that it determines may impact the privacy of an individual or is offensive. For additional information, please read the Privacy Act notice that is available via the link in the footer of https://www.regulations.gov.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a Currently Approved Collection.

(2) Title of the Form/Collection: Allegation of Counterfeiting and Intellectual Piracy.

(3) Agency form number, if any, and the applicable component of the Department of Homeland Security sponsoring the collection: Form 73-048; U.S. Immigration and Customs Enforcement.

(4) Affected public who will be asked or required to respond, as well as a brief abstract: Primary: Individuals or households. This electronic form/collection will be utilized by the public and law enforcement partners as part of an automated allegation and deconfliction program.

(5) An estimate of the total number of respondents and the amount of time estimated for an average respondent to respond: ICE estimates a total of 21,711 responses at 5 minutes (0.0833 hours) per response.

(6) An estimate of the total public burden (in hours) associated with the collection: The total estimated annual hour burden is 1,809 hours.

(7) An estimate of the total annual public burden (in cost) associated with this collection: The estimated total annual cost burden is $101,577.00.

Dated: November 30, 2021.
Scott Elmore,
PRA Clearance Officer, U.S. Immigrations and Customs Enforcement, Department of Homeland Security.

[FR Doc. 2021-26312 Filed 12-2-21; 8:45 am]

BILLING CODE 9111-28-P